INTERNATIONAL TRADE COMMISSION

[Investigation Nos. 701-TA-490 and 731-TA-1204 (Final)]

Hardwood Plywood From China; Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is not materially injured or threatened with material injury, and the establishment of an industry in the United States is not materially retarded, by reason of imports of hardwood plywood from China provided for in subheading(s) 4412.10; 4412.31; 4412.32; 4412.39; 4412.94; and 4412.99 of the Harmonized Tariff Schedule of the United States, that the U.S. Department of Commerce has determined are subsidized and sold in the United States at less than fair value (“LTFV”).²

¹ The record is defined in sec. 207.2(f) of the Commission's Rules of Practice and Procedure (19 CFR 207.2(f)).

² Chairman Irving A. Williamson and Commissioners Shara L. Aranoff, Dean A. Pinkert, David S. Johanson, and Meredith M. Broadbent voted in the negative. Commissioner F. Scott Kieff did not participate in these investigations.

Background

The Commission instituted these investigations effective September 27, 2012, following receipt of a petition filed with the Commission and Commerce by Columbia Forest Products, Greensboro, NC; Commonwealth Plywood Co., Ltd., Whitehall, NY; Murphy Plywood, Eugene, OR; Roseburg Forest Products Co., Roseburg, OR; States Industries LLC, Eugene, OR; and Timber Products Company, Springfield, OR combined as The Coalition for Fair Trade of Hardwood Plywood. The final phase of the investigations was scheduled by the Commission following notification of preliminary determinations by Commerce that imports of hardwood plywood from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 19, 2013 (78 FR 36791). The hearing was held in Washington, DC, on September 19, 2013, and all persons who requested the opportunity were permitted to appear in person or by counsel.

The Commission transmitted its determinations in these investigations to the Secretary of Commerce on November 25, 2013. The views of the Commission are contained in USITC Publication 4434 (November 2013), entitled Hardwood Plywood From China: Investigation Nos. 701-TA-490 and 731-TA-1204 (Final).

Issued: December 13, 2013.
By order of the Commission.
Lisa R. Barton,
Acting Secretary to the Commission.

[FR Doc. 2013-30156 Filed 12-18-13; 8:45 am]

BILLING CODE 7020-02-P